DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Labor Organization and Auxiliary Reports (LM-1, LM-2, LM-3, LM-4, LM-10, LM-15, LM-15A, LM-16, LM-20, LM-21, LM-30, and S-1). A copy of the proposed information collection request can be obtained by contacting the office listed below in the addressee section of this Notice.

DATES: Written comments must be submitted to the office listed in the addressee section below on or before August 7, 2006.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION

I. Background

Congress enacted the Labor-Management Reporting and Disclosure Act of 1959, as amended (LMRDA), to provide for the disclosure of information on the financial transactions and administrative practices of labor organizations. The statute also provides, under certain circumstances, for reporting by labor organization officers and employees, employers, labor relations consultants, and surety companies. Section 208 of the LMRDA authorizes the Secretary to issue rules and regulations prescribing the form of the required reports. The reporting provisions were devised to implement a basic tenet of the LMRDA: The guarantee of democratic procedures and safeguards within labor organizations that are designed to protect the basic rights of union members. Section 205 of the LMRDA provides that the reports are public information.

The Office of Labor-Management Standards (OLMS) administers the reporting provisions of the LMRDA to the statute (29 U.S.C. 431 et seq.) and the implementing and interpreting regulations (29 CFR Chapter IV). This information collection is currently approved for use through November 30, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor (DOL) seeks extension of the current approval to collect this information. An extension is necessary because the LMRDA explicitly requires the reporting and establishes the frequency of the required filings. The information collected by OLMS is used by union members to help self-govern their unions, by the general public, and as research material for both outside researchers and within the Department of Labor. The information is also used to assist DOL and other government agencies in detecting improper practices on the part of labor organizations, their officers and/or representatives, and others and is used by Congress in oversight and legislative functions. In addition to making Forms LM-2, LM-3, LM-4, LM-10, LM-20, LM-21, and LM-30 (from fiscal year 2000 to the present) available to the public online free of charge through its Internet Public Disclosure Room, (http://unionreports.dol.gov/olmsWeb/docs/lmrda.htm), OLMS receives and fulfills approximately 210 disclosure report requests per month.

Type of Review: Extension.

Agency: Employment Standards Administration.

Title: Labor Organization and Auxiliary Reports.

OMB Number: 1215-0188.

Agency Number: LM-1, LM-2, LM-3, LM-4, LM-10, LM-15, LM-15A, LM-16, LM-20, LM-21, LM-30 and S-1.

Affected Public: Individual or households; business or other for-profit; not-for-profit institutions.

Total Respondents: 27,849.

Total Responses: 27,849.

Time per Response (Reporting): 1,175,450.

Time per Response (Recordkeeping): 2,197,804.

Frequency: Semi-annually and Annually.

Estimated Total Burden Hours: 3,373,254.

Total Burden Cost (capital/startup): $0.

Total Burden Cost (operating/maintenance): $0.

Reporting and Recordkeeping Burden Hours
Forms | Responses | Hours per respondent for reporting | Reporting burden hours | Hours per respondent for recordkeeping | Recordkeeping burden hours | Total hours
LM-1 | 255 | 0.83 | 212 | 0.08 | 20 | 232
LM-2 | 3,827 | 146.00 | 558,742 | 390.00 | 1,492,530 | 2,051,272
LM-3 | 10,812 | 52.00 | 562,224 | 64.00 | 691,968 | 1,254,192
LM-4 | 6,355 | 8.00 | 50,840 | 2.00 | 12,710 | 63,550
LM-10 | 1,766 | 0.50 | 883 | 0.08 | 141 | 1,024
LM-15 | 354 | 1.50 | 531 | 0.33 | 117 | 648
LM-15A | 68 | 0.33 | 22 | 0.03 | 2 | 24
LM-16 | 95 | 0.33 | 31 | 0.02 | 2 | 33
LM-20 | 90 | 0.33 | 30 | 0.03 | 3 | 33
LM-21 | 11 | 0.50 | 6 | 0.08 | 1 | 7
LM-30 | 3,494 | 0.50 | 1,747 | 0.08 | 280 | 2,027
S-1 | 179 | 0.50 | 90 | 0.08 | 14 | 104
SARF* | 543 | 0.17 | 92 | 0.03 | 16 | 108
Total | 27,849 |  | 1,175,450 |  | 2,197,804 | 3,373,254
Note: Some numbers may not add due to rounding.
* Simplified Annual Report Format.

Comments submitted in response to this notice will be summarized and/or included in the request for Office of Management and Budget approval of the information collection request; they will also become a matter of public record.

Dated: June 1, 2006.
Ruben L. Wiley,
Chief, Branch of Management Review and Internal Control, Division of Financial Management, Office of Management, Administration and Planning, Employment Standards Administration.

[FR Doc. E6-8739 Filed 6-5-06; 8:45 am]

BILLING CODE 4510-CR-P